DEPARTMENT OF VETERANS AFFAIRS

[OMB Control Number 2900-New]

Agency Information Collection Activity: Service Level Measurement—VBA Contact Center Survey

AGENCY: Veterans Experience Office, Department of Veterans Affairs.

ACTION: Notice.

SUMMARY: The Veterans Experience Office (VEO), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before July 8, 2019.

ADDRESSES: Submit written comments on the collection of information through Federal Docket Management System (FDMS) at www.Regulations.gov or to Michael Jacobsen, Veterans Experience Office, Department of Veterans Affairs, 810 Vermont Avenue NW, Washington, DC 20420 or email to michael.jacobsen2@va.gov. Please refer to “Service Level Measurement—VBA Contact Center Survey” in any correspondence. During the comment period, comments may be viewed online through FDMS.

FOR FURTHER INFORMATION CONTACT: Danny S. Green at (202) 421-1354.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VEO invites comments on: (1) Whether the proposed collection of information is necessary for the proper performance of VEO's functions, including whether the information will have practical utility; (2) the accuracy of VEO's estimate of the burden of the proposed collection of information; (3) ways to enhance the quality, utility, and clarity of the information to be collected; and (4) ways to minimize the burden of the collection of information on respondents, including through the use of automated collection techniques or the use of other forms of information technology.

Authority: OMB Circular A-11 (2018), Section 280.

Title: Service Level Measurement—VBA Contact Center Survey.

OMB Control Number: 2900-New.

Type of Review: New collection.

Abstract: The Enterprise Measurement and Design team (EMD) team is tasked with conducting transactional surveys of the Veteran population to measure their satisfaction with the Department of Veterans Affairs (VA) numerous services. Thus, their mission is to empower Veterans by rapidly collecting feedback on their interactions with such VA entities as NCA, VHA, and VBA.

The Veteran Benefits Administration (VBA) oversees numerous government programs supporting Veterans, including those furthering their education or filing for pension benefits. These programs engage Veterans through the National Call Center (NCC) or other benefit-specific call centers. The Veterans Experience Office (VEO) was procured by VBA to measure the customer satisfaction of persons contacting the following call centers: NCC, Pension, and Education.

Customer experience and satisfaction are usually measured at three levels: the enterprise level, the service level patterns, and point-of-service feedback. This measurement may bring insights and value to all stakeholders at VA. Front-line VA leaders can resolve individual feedback from Veterans and take steps to improve the customer experience; meanwhile VA executives can receive real-time updates on systematic trends that allow them to make changes.

(1) To collect continuous customer experience data that make or break the service experience.

(2) To help field staff and the national office identify areas of improvement.

(3) To understand emerging drivers and detractors of customer experience.

To accomplish this task, the VEO will invite random samples of recent callers to these call centers via email to complete a brief transactional online survey. Samples will be drawn three times a week to ensure that callers can accurately respond to their most recent call. The selected callers are given two weeks to respond to the survey, receiving an email reminding them about the survey invitation if they did not respond one week after the initial email. Sampled callers will report their experiences through Likert-scale questions designed to measure the customer experience driver metrics published by OMB in the A-11 Budget Directive. Sampled callers will also be asked to respond to an open-ended question about their experience with the VBA Contact Centers that will allow them to provide any further information about their experience that was not captured in the previous questions. Once data collection is completed, the participant responses in the online survey will be weighted so that the samples represent the caller population. Weighting models will rely on the following: Call Center Type and Subsidiary Call Center (NCC only). Weighted estimates will be published through dashboards on the Veteran Signals (VSignals) system for interactive reporting and data visualization.

This data collection was previously approved and conducted under the VA Generic Clearance Number 2900-0770: Generic Clearance for the Collection of Qualitative Feedback on Agency Service Delivery. Under this clearance, the VEO could collect and report this data to stakeholders internal to VA for program and procedure improvement. However, the stakeholders directed VEO to present the results that are statistically rigorous and generalizable to the target population from this survey to the public, which was not allowed under Generic Clearance Number 2900-0770.

Therefore, the VEO is creating a new information collection request to be able to meet the quantitative goals of the VBA Contact Center Survey of 1) being representative of the VBA Contact Center population and 2) allow for accurate statistical analysis and to allow it to be released to the public.

Affected Public: Individuals.

Estimated Annual Burden: 1,957 hours.

Estimated Average Burden per Respondent: 2 minutes.

Estimated Average Cost per Respondent: $0.74.

Frequency of Response: Once.

Estimated Number of Respondents: 58,712.

By direction of the Secretary.
Danny S. Green,
Interim VA Clearance Officer, Office of Quality, Performance and Risk, Department of Veterans Affairs.

[FR Doc. 2019-09243 Filed 5-7-19; 8:45 am]

BILLING CODE 8320-01-P